NUCLEAR REGULATORY COMMISSION

[Docket No. NRC-2010-0153]

Agency Information Collection Activities: Submission for the Office of Management and Budget (OMB) Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. ch. 35). The NRC hereby informs potential respondents that an agency may not conduct or sponsor, and that a person is not required to respond to, a collection of information unless it displays a currently valid OMB control number. The NRC published a Federal Register notice with a 60-day comment period on this information collection on April 16, 2010.

1. Type of submission, new, revision, or extension: Revision.

2. The title of the information collection:

NRC Form 136, “Security Termination Statement”.

NRC Form 237, “Request for Access Authorization”.

NRC Form 277, “Request for Visit or Access Authorization”.

3. Current OMB approval number:

3150-0049, NRC Form 136.

3150-0050, NRC Form 237.

3150-0051, NRC Form 277.

4. The form number if applicable:

NRC Form 136.

NRC Form 237.

NRC Form 277.

5. How often the collection is required:

NRC Form 136: Routinely.

NRC Form 237 and 277: On occasion.

6. Who will be required or asked to report: NRC Form 136, NRC employees, licensees and contractors. NRC Form 237, NRC contractors, subcontractors, licensee employees, employees of other government agencies, and other individuals who are not NRC employees. NRC Form 277, Any employees of approximately 68 licensees and 7 contracts who hold an NRC access authorization and need to make a visit to NRC, other contractor/licensees or government agencies in which access to classified information will be involved or unescorted area access is desired.

7. The estimated number of annual responses:

NRC Form 136: 300.

NRC Form 237: 420.

NRC Form 277: 60.

8. The estimated number of annual respondents:

NRC Form 136: 300.

NRC Form 237: 420.

NRC Form 277: 60.

9. An estimate of the total number of hours needed annually to complete the requirement or request:

NRC Form 136: 50.

NRC Form 237: 84.

NRC Form 277: 10.

10. Abstract: The NRC Form 136 is completed by NRC employees, licensees, and contractors that are leaving the NRC. NRC Form 237 is completed by NRC contractors, subcontractors, licensee employees, employees of other government agencies, and other individuals who are not NRC employees that require an NRC access authorization. NRC Form 277 affects NRC contractor and licensees who have been granted and NRC access authorization and require verification of that access authorization and need-to-know in conjunction with a visit to NRC, other contractors/licensees or government agencies in which access to classified information will be involved or unescorted area access is desired.

A copy of the final supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions should be directed to the OMB reviewer listed below by July 30, 2010. Comments received after this date will be considered if it is practical to do so, but assurance of consideration cannot be given to comments received after this date.

Christine J. Kymn, Desk Officer, Office of Information and Regulatory Affairs (3150-0049; 0050; 0051), NEOB-10202, Office of Management and Budget, Washington, DC 20503.

Comments can also be e-mailed to Christine.J.Kymn@omb.eop.gov or submitted by telephone at (202) 395-4638.

The NRC Clearance Officer is Tremaine Donnell, (301) 415-6258.

Dated at Rockville, Maryland, this 24th day of June, 2010.
For the Nuclear Regulatory Commission.
Tremaine Donnell,
NRC Clearance Officer, Office of Information Services.

[FR Doc. 2010-15884 Filed 6-29-10; 8:45 am]

BILLING CODE 7590-01-P